DEPARTMENT OF JUSTICE

Notice of Lodging of Consent Decree Under the Residential Lead-Based Paint Hazard Reduction Act

Notice if hereby given that on May 14, 2007, a proposed consent decree inUnited States v. Linder & Associates, Civil Action No. 07-3152 MMM (FMOx), was lodged with the United States District Court for the Central District of California.

The consent decree settles claims against the management company of residential properties containing approximately 500 units located in Los Angeles, Victorville, North Hills and Inglewood, California. The claims were brought on behalf of the Department of Housing and Urban Development, (“HUD”), and the Environmental Protection Agency, (“EPA”) under the Residential Lead-Based Paint Hazard Reduction Act 42 U.S.C. 4851 et seq. (“Lead Hazard Reduction Act”). The United States alleged in the complaint that the defendant failed to make one or more of the disclosures or to complete one or more of the disclosure activities required by the Lead Hazard Reduction Act.

Under the consent decree, Linder will certify that it is complying with residential lead paint notification requirements. The defendant has inspected all of its non-studio apartments for lead-based paint and will inspect 254 studio units within thirty (30) days of entry of the consent decree. Linder has agreed to abate any lead found to be in fair or deteriorating condition and will apply interim controls to any paint found to be in intact condition. All window units will be replaced in every unit found to contain lead, regardless of whether it is a studio unit or not. The timing of window replacement varies from four (4) to six (6) years, depending on whether the unit is a studio unit and whether the unit houses a child or children under six years of age.

In addition, the defendant will pay an administrative penalty of $7,700 to the United States and $2,300 in costs to the State of California.

The Department of Justice will receive for a period of thirty (30) days from the date of this publication comments relating to the consent decree. Comments should be addressed to the Assistant Attorney General, Environment and Natural Resources Division and either e-mailed topubcomment-ees.enrd@usdoj.gov or mailed to P.O. Box 7611, U.S. Department of Justice, Washington, DC 20044-7611, and should refer toUnited States v. Linder & Associates, D.J. #90-5-1-1-07223/1.

The proposed consent decree may be examined at the Department of Housing and Urban Development, Office of General Counsel, 451 7th St., NW., Room 9262, Washington, DC 20410; at the office of the United States Attorney for the Central District of California, 300 North Los Angeles Street, Room 7516, Los Angeles, California 90012; and at U.S. EPA Region IX, 75 Hawthorne Street, San Francisco, California 94105. During the public comment period, the consent decree may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction costs), payable to the U.S. Treasury or, if by e-mail or fax, forward a check in the amount to the Consent Decree Library at the stated address.

Karen Dworkin,
Assistant Chief, Environmental Enforcement Section, Environment and Natural Resources Division.

[FR Doc. 07-2817 Filed 6-6-07; 8:45 am]

BILLING CODE 4410-15-M